DEPARTMENT OF EDUCATION

[CFDA Nos. 84.305G, 84.305H, 84.305J, 84.305K, 84.305L, 84.305M, and 84.305W]

Institute of Education Sciences; Notice Inviting Applications for Grants To Support Education Research for Fiscal Year (FY) 2003

SUMMARY: The Director of the Institute of Education Sciences (Institute) announces seven FY 2003 competitions for grants to support educational research. The Director takes this action under the Education Sciences Reform Act of 2002 (Act), Title I of Public Law 107-279. The intent of these grants is to provide national leadership in expanding fundamental knowledge and understanding of education from early childhood education through postsecondary study.

SUPPLEMENTARY INFORMATION Mission of Institute: A central purpose of the Institute is to provide parents, educators, students, researchers, policymakers, and the general public with reliable information about educational practices that support learning and improve academic achievement and access to educational opportunities for all students. In carrying out its mission, the Institute provides support for programs of research in areas of demonstrated national need.

Competitions in this notice: The following are the seven competitions in this notice for grants to support educational research in FY 2003:

• Preschool Curriculum Evaluation Research

• Interagency Education Research, in partnership with the National Science Foundation and the National Institutes of Health

• Cognition and Student Learning Research

• Reading Comprehension Research

• Teacher Quality Research

• Effective Mathematics Education Research

• Social and Character Development Research

Organization of Notice: This notice is organized in a way to be helpful to a potential applicant. The notice provides information on eligibility; application availability; data—such as key dates, length of project period, and program contacts—for each competition; indication of intent to apply; and application procedures.

Eligible Applicants: Applicants that have the ability and capacity to conduct scientifically valid research are eligible to apply. Eligible applicants include, but are not limited to, non-profit and for-profit organizations and public and private agencies and institutions, such as colleges and universities.

Request for Applications and Other Information: Information regarding program and application requirements for each of the competitions is contained in the applicable Request for Applications package (RFA), which will be available at the following Web site: http://www.ed.gov/offices/IES/funding.html.

The RFAs will be available—

(1) On or before January 6, 2003 for Preschool Curriculum Evaluation Research, Reading Comprehension Research, Cognition and Student Learning Research, and Interagency Education Research;

(2) On or before January 15, 2003 for Effective Mathematics Education Research, and Social and Character Development Research; and

(3) On or before February 14, 2003 for Teacher Quality.

Interested potential applicants should check the Web site periodically.

Information regarding selection criteria and review procedures will also be posted at this Web site.

Key Dates and Contacts
CFDA number and program of research | Due date for optional letter of intent | Deadline for receipt of applications | Project period | For further information contact
84.305J Preschool Curriculum Evaluation Research | Jan. 24, 2003 | Mar. 14, 2003 | Up to 48 months | Caroline Ebanks Email: caroline.ebanks@ed.gov
84.305W Interagency Education Research | Jan. 24, 2003 | Mar. 14, 2003 | Up to 60 months | Mark Constas Email: mark.constas@ed.gov
84.305H Cognition and Student Learning Research | Jan. 29, 2003 | Mar. 21, 2003 | Up to 36 months | Elizabeth Albro Email: elizabeth.albro@ed.gov
84.305G Reading Comprehension Research | Jan. 30, 2003 | Mar. 21, 2003 | Up to 36 months | Elizabeth Albro Email: elizabeth.albro@ed.gov
84.305M Teacher Quality Research | Mar. 26, 2003 | Apr. 18, 2003 | Up to 36 months | Harold Himmelfarb Email: harold.himmelfarb@ed.gov
84.305K Effective Mathematics Education Research | Mar. 6, 2003 | Apr. 18, 2003 | Up to 48 months | Heidi Schweingruber Email: heidi.schweingruber@ed.gov
84.305L Social and Character Development Research | Mar. 6, 2003 | Apr. 25, 2003 | Up to 48 months | Tamara Haegerich Email: tamara.haegerich@ed.gov

Fiscal Information: Although a final appropriation for FY 2003 has not been enacted, the Institute is inviting applications now, in accordance with the schedule in the preceding chart, so that it may be prepared to make awards following final action by Congress on the Department's appropriation bill. The President's Budget for the Institute for FY 2003 includes sufficient funding for all of the competitions included in this notice. The actual award of grants is pending the availability of funds.

Applicable Regulations: The Education Department General Administrative Regulations (EDGAR) in 34 CFR parts 74, 77, 80, 81, 82, 85, 86 (part 86 applies only to Institutions of Higher Education), 97, 98, and 99. In addition 34 CFR part 75 is applicable, except for the provisions in 34 CFR 75.102, 75.103, 75.105, 75.109(a), 75.200, 75.201, 75.209, 75.210, 75.217, 75.219 (except that the Department may select an application for funding without following the applicable procedures if the application was evaluated under the preceding competition of the program; the application rated high enough to deserve selection; and the application was not selected for funding because the application was mishandled by the Department), 75.220 and 75.230.

Letter of Intent: A letter indicating a potential applicant's intent to submit an application is optional, but encouraged, for each application. The letter of intent should be submitted by e-mail by the date listed in the chart included in this notice to the following address: IES-LOI@asciences.com. Receipt of the letter of intent will be acknowledged by e-mail.

The letter of intent should not exceed one page in length and should include: (1) A descriptive title and brief description of the research project; (2) the name, institutional affiliation, address, telephone number and e-mail address of the principal investigator(s); and (3) the name and institutional affiliation of any key collaborators.

The letter of intent should also: (1) Indicate the duration of the proposed project; (2) provide an estimated budget request by year and a total budget request; and (3) indicate in the e-mail subject line the RFA number and title of the relevant program of research as indicated at the following Web site: http://www.ed.gov/offices/IES/funding.html.

The letter of intent is optional and is not binding on applicants. Moreover, it does not enter into or affect the subsequent review of applications. The information in the optional letter of intent will help Institute staff estimate the potential workload involved in planning the review of applications.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications to the FY 2003 competitions be submitted electronically to the following Web site: http://ies.asciences.com. Information on the software to be used in submitting applications is available at the same Web site.

FOR FURTHER INFORMATION CONTACT: The contact person associated with a particular program of research is listed in the chart included in this notice.

If you use a telecommunications device for the deaf (TDD), you may call the Federal Information Relay Service (FIRS) at 1-800-877-8339.

Individuals with disabilities may obtain this document in an alternative format (e.g., Braille, large print, audiotape, or computer diskette) on request to the program contact person listed in the chart included in this notice.

Individuals with disabilities may obtain a copy of the application package in an alternative format by contacting the program contact person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 9501 et seq. (the “Education Sciences Reform Act of 2002”, Title 1 of Public Law 107-279, November 5, 2002).

Dated: December 30, 2002.
Grover J. Whitehurst,
Director, Institute of Education Sciences.

[FR Doc. 03-160 Filed 1-3-03; 8:45 am]

BILLING CODE 4000-01-P